DEPARTMENT OF COMMERCE

International Trade Administration

(A-533-824)

Certain Polyethylene Terephthalate Film, Sheet and Strip from India: Rescission of Antidumping Duty Administrative Review

AGENCY: Import Administration, International Trade Administration, Department of Commerce.

EFFECTIVE DATE: January 18, 2005.

FOR FURTHER INFORMATION CONTACT: Jeff Pedersen or Drew Jackson, AD/CVD Operations, Office 4, Import Administration, International Trade Administration, U.S. Department of Commerce, 14th Street and Constitution Avenue, NW, Washington, DC 20230; telephone (202) 482-2769 or (202) 482-4406, respectively.

SUPPLEMENTARY INFORMATION:

Background

On August 30, 2004, the Department of Commerce (the Department) published in the Federal Register, a notice announcing the initiation of an administrative review of the antidumping duty order on Polyethylene Terephthalate Film, Sheet and Strip (PET Film) from India covering the period July 1, 2003, through June 30, 2004. See Initiation of Antidumping and Countervailing Duty Administrative Reviews and Requests for Revocation in Part, 69 FR 52857 (August 30, 2004) (Initiation Notice). The review was requested by Dupont Teijin Films, Mitsubishi Polyester Film of America, and Toray Plastics (America), Inc., (collectively, the petitioners), and respondents, Garware Polyester Limited (Garware) and Jindal Polyester Limited (which is currently doing business as Jindal Poly Films Limited of India (Jindal)). The review covers the following companies: Polyplex Corporation Ltd., Jindal, Ester Industries Ltd., Flex Industries Ltd., Garware, SRF Ltd., and MTZ Polyesters Ltd. See Initiation Notice. On September 24, 2004, the petitioners withdrew their request for an administrative review of Polyplex Corporation Ltd., Jindal, Ester Industries Ltd., Flex Industries Ltd., Garware, SRF Ltd., and MTZ Polyesters Ltd. On November 9, 2004, Garware withdrew its request for an administrative review. On November 23, 2004, Jindal withdrew its request for an administrative review.

Rescission of Review

Section 351.213(d)(1) of the Department's regulations provides that the Department will rescind an administrative review if the party that requested the review withdraws its request for review within 90 days of the date of publication of the notice of initiation of the requested review, or withdraws its request at a later date if the Department determines that it is reasonable to extend the time limit for withdrawing the request. On September 24, 2004, November 9, 2004, and November 23, 2004, the petitioners, Garware, and Jindal, respectively, submitted letters withdrawing their requests that the Department conduct an administrative review covering the period July 1, 2003, through June 30, 2004. Accordingly, the Department is rescinding the administrative review of the antidumping duty order on PET Film from India covering the period July 1, 2003, through June 30, 2004, because all the parties that requested administrative reviews have withdrawn their requests within the 90-day period. The Department will issue appropriate assessment instructions to U.S. Customs and Border Protection within 15 days of publication of this notice.

This notice serves as a reminder to parties subject to the administrative protective order (APO) of their responsibility concerning the disposition of proprietary information disclosed under the APO in accordance with section 351.305(a)(3) of the Department's regulations. Timely written notification of the return or destruction of APO materials or conversion to judicial protective order is hereby requested. Failure to comply with the regulations and terms of an APO is a sanctionable violation.

This notice is in accordance with section 777(i)(1) of the Tariff Act of 1930, as amended, and section 351.213(d)(4) of the Department's regulations.

Dated: January 10, 2005.
Barbara E. Tillman,
Acting Deputy Assistant Secretary for Import Administration.

[FR Doc. E5-164 Filed 1-14-05; 8:45 am]

BILLING CODE 3510-DS-S